DEPARTMENT OF DEFENSE

GENERAL SERVICES ADMINISTRATION

NATIONAL AERONAUTICS AND SPACE ADMINISTRATION

[OMB Control No. 9000-0136; Docket No. 2022-0053; Sequence No. 18]

Submission for OMB Review; Commercial Acquisitions

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding commercial acquisitions.

DATES: Submit comments on or before October 27, 2022.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0136, Commercial Acquisitions. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0136, Commercial Acquisitions.

B. Need and Uses

This clearance covers the information that offerors must submit to comply with the following Federal Acquisition Regulation (FAR) requirements:

FAR 52.212-3, Offeror Representations and Certifications—Commercial Products and Commercial Services. Paragraph (b)(2) requires offerors to identify the applicable paragraphs at (c) through (v) of this provision that the offeror has completed for the purposes of the relevant solicitation only, if any. The provision stipulates that any changes provided by the offeror under paragraph (b)(2) are applicable to that specific solicitation only, and do not result in an update to the representations and certifications posted electronically in the System for Award Management. The contracting officer will use the information to determine a contractor's eligibility for award, and to incorporate appropriate terms and conditions into the contract award.

C. Annual Burden

Respondents: 140,055.

Total Annual Responses: 414,909.

Total Burden Hours: 207,455.

D. Public Comment

A 60-day notice was published in the Federal Register at 87 FR 43039, on July 19, 2022. No comments were received.

Obtaining Copies: Requesters may obtain a copy of the information collection documents from the GSA Regulatory Secretariat Division by calling 202-501-4755 or emailing GSARegSec@gsa.gov. Please cite OMB Control No. 9000-0136, Commercial Acquisitions.

Janet Fry,
Director, Federal Acquisition Policy Division, Office of Governmentwide Acquisition Policy, Office of Acquisition Policy, Office of Governmentwide Policy.

[FR Doc. 2022-20811 Filed 9-26-22; 8:45 am]

BILLING CODE 6820-EP-P